DEPARTMENT OF ENERGY

Federal Energy Regulatory Commission

[Project No. 2107-065]

Pacific Gas & Electric Company; Notice of Intent To Prepare an Environmental Assessment

On October 24, 2024, and supplemented on May 9, 2025, and May 13, 2025, Pacific Gas & Electric Company (licensee) filed an application for a temporary variance from its minimum instream flow requirements under California State Water Resources Control Board (California SWRCB)'s section 401 Water Quality Certification (WQC) condition 1 and U.S. Department of Agriculture, Forest Service (Forest Service) 4(e) condition 23 Part 1 for the Poe Project No. 2107. The project is located on the North Fork Feather River in Butte County, California. The project occupies federal land within the Plumas National Forest, managed by the Forest Service.

The licensee proposes to reduce flows released from Poe Dam so that instream flows of the North Fork Feather River bypassed reach are 100 cubic feet per second (cfs) from June 1, 2025 through November 15, 2025. The licensee states that this reduction is necessary to facilitate recoating the radial bypass gates and replacing the seals, the gate hoist, and its controls. The radial gate apparatus that normally releases regulated flows into the Poe bypassed reach will be out of service during the repair. The variance would affect approximately 8 miles of the North Fork Feather River, also known as the Poe bypassed reach, until it joins Lake Oroville downstream.

The Commission issued a notice of application for filing, soliciting comments, motions to intervene, and protests for this variance request on May 12, 2025. The public comment period closed on June 11, 2025.

This notice identifies Commission staff's intention to prepare an environmental assessment (EA) under the National Environmental Policy Act (42 U.S.C. 4321 et seq) for the project.¹ Commission staff plans to issue an EA by June 20, 2025. Revisions to the schedule may be made as appropriate.

¹ The unique identification number for documents relating to this environmental review is EAXX-019-20-000-1747814721.

The Commission's Office of Public Participation (OPP) supports meaningful public engagement and participation in Commission proceedings. OPP can help members of the public, including landowners, Tribal members, and others to access publicly available information and navigate Commission processes. For public inquiries and assistance with making filings such as interventions, comments, or requests for rehearing, the public is encouraged to contact OPP at (202) 502-6595 or OPP@ferc.gov.

Any questions regarding this notice may be directed to Katie Schmidt at (415) 369-3348 or katherine.schmidt@ferc.gov.

Dated: June 12, 2025.
Carlos D. Clay,
Deputy Secretary.

[FR Doc. 2025-11165 Filed 6-16-25; 8:45 am]

BILLING CODE 6717-01-P